NATIONAL CREDIT UNION ADMINISTRATION

Sunshine Act; Notice of Meeting

Time and Date: 10 a.m., Thursday, October 21, 2004.

Place: Board Room, 7th Floor, Room 7047, 1775 Duke Street, Alexandria, VA 22314-3428.

Status: Open.

Matters to be Considered: 1. Quarterly Insurance Fund Report.

2. Final Rule: Section 701.14 of NCUA's Rules and Regulations, Change in Official or Senior Executive Officer in Credit Unions that are Newly Chartered or in Troubled Condition.

3. Final Rule: Part 723 of NCUA's Rules and Regulations, Member Business Loans.

FOR FURTHER INFORMATION CONTACT: Mary Rupp, Secretary of the Board, Telephone: (703) 518-6304.

Mary Rupp,
Secretary of the Board.

[FR Doc. 04-23406 Filed 10-14-04; 3:18 pm]

BILLING CODE 7535-01-M